DEPARTMENT OF ENERGY

Federal Energy Regulatory Commission

[Project No. 2985-006]

MeadWestvaco Corporation; Notice of Application Tendered for Filing With the Commission and Establishing Procedural Schedule for Licensing and Deadline for Submission of Final Amendments

May 12, 2009.

Take notice that the following hydroelectric application has been filed with the Commission and is available for public inspection.

a. Type of Application: Subsequent Minor License.

b. Project No.: 2985-006.

c. Date Filed: April 29, 2009.

d. Applicant: MeadWestvaco Corporation.

e. Name of Project: Willow Mill Hydroelectric Project.

f. Location: On the Housatonic River in the Town of Stockbridge, Berkshire County, Massachusetts. The project does not affect federal lands.

g. Filed Pursuant to: Federal Power Act 16 U.S.C. 791(a)-825(r).

h. Applicant Contact: Thomas A. Beebe, Senior Engineering Project Manager, MeadWestvaco, MW Custom Papers, LLC, P.O. Box 188, South Lee, MA 01260, (413) 243 5938, thomas.beebe@mwv.com.

i. FERC Contact: Kristen Murphy, (202) 502-6236 or kristen.murphy@ferc.gov.

j. This application is not ready for environmental analysis at this time.

k. The existing Willow Mill Project consists of: (1) A 14-foot-high, 150-foot-wide stone masonry gravity dam; (2) an 11-acre impoundment; (3) a 10-foot-deep, 18-foot-wide, 50-foot-long rubble and masonry canal connected to a 10-foot-deep, 18-foot-wide, 260-foot-long rubble and masonry underground headrace; (4) two 5.5-foot-long, 8-foot diameter steel penstocks; (5) a 100-kW turbine generating unit; and (6) a 210-foot-long discharge pipe releasing water back into the Housatonic River. The turbine generating unit is located in the basement of MeadWestvaco's paper mill. There are no transmission lines associated with the project as all of the power is used for internal use at the Willow Mill.

The applicant proposes to continue to operate the project in run-of-river mode with an increase in minimum flow in the 700-foot-long bypass reach from 1.4 cubic feet per second (cfs) to 122 cfs or inflow, whichever is less. The applicant estimates that the total average annual generation, with the proposed minimum flow, would be approximately 256 megawatt-hours.

l. A copy of the application is available for review at the Commission in the Public Reference Room or may be viewed on the Commission's Web site at http://www.ferc.gov using the eLibrary link. Enter the docket number excluding the last three digits in the docket number field to access the document. For assistance, contact FERC Online Support at FERCOnlineSupport@ferc.gov or toll-free at 1-866-208-3676, or for TTY, (202) 502-8659. A copy is also available for inspection and reproduction at the address in item h above.

m. You may also register online at http://www.ferc.gov/docs-filing/esubscription.asp to be notified via e-mail of new filings and issuances related to this or other pending projects. For assistance, contact FERC Online Support.

n. Procedural Schedule: The application will be processed according to the following Hydro Licensing Schedule. The Commission staff proposes to issue a single Environmental Assessment (EA) rather than issuing a draft and final EA. The schedule allows 30 days for entities to comment on the EA, and 60 days for agencies to file modified mandatory terms and conditions. Staff will take into consideration all comments and terms and conditions received on the EA before final action is taken on the license application. Revisions to the schedule may be made as appropriate.

Milestone | Target date
Notice of Acceptance and Ready for Environmental Analysis | June 28, 2009.
Filing interventions, comments, recommendations, preliminary terms and conditions, and fishway prescriptions | August 27, 2009.
Notice of availability of the EA | December 25, 2009.
Filing comments on EA | January 24, 2010.
Filing modified terms and conditions | March 25, 2010.

o. Final amendments to the application must be filed with the Commission no later than 30 days from the issuance date of the notice of ready for environmental analysis.

Kimberly D. Bose,
Secretary.

[FR Doc. E9-11570 Filed 5-18-09; 8:45 am]

BILLING CODE 6717-01-P